INTERNATIONAL TRADE COMMISSION

[Investigation No. AA1921-167 (Third Review)]

Pressure Sensitive Plastic Tape From Italy; Determination

On the basis of the record ¹ developed in the subject five-year review, the United States International Trade Commission (Commission) determines, pursuant to section 751(c) of the Tariff Act of 1930 (19 U.S.C. 1675(c)), that revocation of the antidumping duty finding on pressure sensitive plastic tape from Italy would be likely to lead to continuation or recurrence of material injury to an industry in the United States within a reasonably foreseeable time.²

¹ The record is defined in sec. 207.2(f) of the Commission's Rules of Practice and Procedure (19 CFR 207.2(f)).

² Chairman Shara L. Aranoff, Vice Chairman Daniel R. Pearson, and Commissioner Deanna Tanner Okun dissenting.

Background

The Commission instituted this review on May 1, 2009 (74 FR 20340) and determined on August 4, 2009, that it would conduct a full review (74 FR 40845, August 13, 2009). Notice of the scheduling of the Commission's review and of a public hearing to be held in connection therewith was given by posting copies of the notice in the Office of the Secretary, U.S. International Trade Commission, Washington, DC, and by publishing the notice in the Federal Register on August 26, 2009 (74 FR 43155). The hearing was held in Washington, DC, on January 14, 2010, and all persons who requested the opportunity were permitted to appear in person or by counsel.

The Commission transmitted its determination in this review to the Secretary of Commerce on March 11, 2010. The views of the Commission are contained in USITC Publication 4128 (March 2010), entitled Pressure Sensitive Plastic Tape from Italy: Investigation No. AA1921-167 (Third Review).

Issued: March 22, 2010.
By order of the Commission.
Marilyn R. Abbott,
Secretary.

[FR Doc. 2010-6666 Filed 3-25-10; 8:45 am]

BILLING CODE 7020-02-P